DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Providers Survey in the Aging, Mental Health/Substance Abuse and Primary Care Program—(New)— The Center for Mental Health Services (CMHS) of the Substance Abuse and Mental Health Services Administration (SAMHSA), in collaboration with the Center for Substance Abuse Prevention (CSAP) and the Center for Substance Abuse Treatment (CSAT), the Department of Veterans Affairs (VA), the Health Care Financing Administration (HCFA), and the Health Resources and Services Administration (HRSA), plans to conduct a survey of the service providers in the Aging, Mental Health/Substance Abuse and Primary Care Program. The purpose of this program is to evaluate alternative models of delivering and financing mental health and/or substance abuse services for older adults through primary health care. We hope to identify differences in outcomes between models referring to specialty mental health/substance abuse (MH/SA) services outside the primary care setting (Referral Model) and those providing such services within the primary care setting itself (Integrated Model).

SAMHSA is funding the Coordinating Center at the Harvard Medical School and six Study Sites, three of which are also HRSA Community Health Centers and receive additional service enhancement funding from HRSA. Furthermore, the VA is funding a Coordinating Center at the Miami VAMC and another five VA Study Sites, following the same protocol, making a total of 11 Study Sites, in 8 States throughout the country. In the intervention, over 50,000 individuals over age 65 are expected to be screened in primary care settings for mental health and substance abuse problems; those in need will receive treatment in either the referral model or the integrated model.

Specifically, the primary purpose of the Aging, MH/SA and Primary Care Program is to specify the conditions under which integrated and referral models are most effective in terms of access, adherence, consumer outcomes, and system outcomes. The multi-site study will focus on the impact of the treatment models on older adults with depression, anxiety, alcoholism, and alcohol abuse with other drugs, and combinations of the above disorders. It highlights prevention, early identification, early intervention, and brief treatment components of service models; it incorporates a consumer-oriented approach throughout all phases of the study, and cultural competence in all study instruments and methods for a variety of ethnic older populations. This study will seek to expand our knowledge, using the most rigorous available scientific methods available, by measuring the relative effectiveness of service models.

In this context, this study intends to evaluate the role of the providers in the treatment of these older adults with MH/SA disorders, both the Primary Care Providers (PCPs) and MH/SA Providers. Therefore, it is proposed to use a questionnaire called a Providers Survey to survey both PCPs and MH/SA Providers to determine their perceptions, attitudes and beliefs about providing these services to older adults under the two service delivery models.

Analysis of this information will assist SAMHSA in documenting communication patterns with, attitudes towards, and perceptions of older adults participants in the study, permitting some understanding of the provider-older adult interactions. In addition, there may be important differences between the integrated and referral service delivery models in the interaction between the PCP and MH/SA Providers. These two sets of interactions may, in turn, have a direct effect or moderating effect on the effectiveness of the service delivery models.

The Provider Survey will be used one time as a part of Process Evaluation at the time of site visits to the 11 Study Sites in the spring of 2001. Outside, formal comparison groups are not needed, as the main comparisons will be made of the integrated and referral models within each study site.

The 11 Study Sites expect to survey approximately 312 providers for this study, including 158 PCPs and 154 MH/SA Providers. The chart below summarizes complete burden for this project.

Respondent type | Number of respondents | Responses/respondent | Average burden/ response (hours) | Annual burden (hours)
Primary care providers | 158 | 1 | 0.133 | 21
Mental health/substance abuse providers | 154 | 1 | 0.133 | 20
Total | 312 |  |  | 41

Send comments to Nancy Pearce, SAMHSA Reports Clearance Officer, Room 16-105, Parklawn Building, 5600 Fishers Lane, Rockville, MD 20857. Written comments should be received within 60 days of this notice.

Dated: September 20, 2000.
Richard Kopanda,
Executive Officer, SAMHSA.

[FR Doc. 00-24626 Filed 9-25-00; 8:45 am]

BILLING CODE 4162-20-P